DEPARTMENT OF COMMERCE

National Oceanic and Atmospheric Administration

[I.D. 102301A]

Endangered and Threatened Species; Take of Anadromous Fish

AGENCY: National Marine Fisheries Service (NMFS), National Oceanic and Atmospheric Administration (NOAA), Commerce.

ACTION: Notice of final determination and discussion of underlying biological analysis.

SUMMARY: NMFS has evaluated the Tribal Resource Management Plan (Tribal Plan) submitted by the Nez Perce Tribe pursuant to the protective regulations promulgated for Snake River spring/summer chinook salmon under the Endangered Species Act (ESA). The Tribal Plan specifies the management of tribal and recreational fisheries (operated by the State of Oregon) in the Imnaha River, Oregon, that potentially affect listed Snake River spring/summer chinook salmon. This document serves to notify the public that NMFS, by delegated authority from the Secretary of Commerce, has determined that implementing and enforcing the Tribal Plan will not appreciably reduce the likelihood of survival and recovery of the Snake River spring/summer chinook salmon Evolutionarily Significant Unit (ESU). This document also includes a summary of the underlying biological analysis used in the determination (Evaluation).

DATES: The final determination on the take limit was made on August 31, 2001.

ADDRESSES: Hatcheries and Inland Fisheries Branch, Sustainable Fisheries Division, National Marine Fisheries Service, 525 NE Oregon Street, Suite 510, Portland, OR 97232-2737.

FOR FURTHER INFORMATION CONTACT: Herbert Pollard at: (208) 378-5614, or e-mail: Herbert.Pollard@noaa.gov regarding the Tribal Plan.

SUPPLEMENTARY INFORMATION: This notice is relevant to the Snake River spring/summer chinook salmon (Oncorhynchus tshawytscha) ESU.

Electronic Access

The final determination is available on the Internet at http://www.nwr.noaa.gov/.

Background

The Nez Perce Tribe developed a Tribal Plan specifying the management of tribal ceremonial and subsistence fisheries and non-tribal recreational fisheries in the Imnaha River basin. The Tribal Plan includes recreational fisheries specified by the Oregon Department of Fish and Wildlife, acting as an agent of the Nez Perce Tribe, that take place in the same waters and the same time frame as the tribal ceremonial and subsistence fisheries. The fisheries are intended to provide harvest opportunity for tribal and non-Indian fishers on spring chinook salmon returning to the Imnaha River in year 2001. The Tribal Plan also includes implementation, evaluation, enforcement, and reporting procedures designed to ensure the fisheries are consistent with continuing conservation and restoration objectives. The Tribal Plan describes fishery activities proposed to occur only in year 2001.

On May 16, 2001, at 66 FR 27069, NMFS published a notice of availability for public review and comment on its evaluation of how the Tribal Plan addressed the standards of 50 CFR 223.209 (65 FR 42481, July 10, 2000), the ESA Tribal Plan Limit.

As required by § 223.209, NMFS must determine whether the Tribal Plan would appreciably reduce the likelihood of survival and recovery of the Snake River spring/summer chinook salmon ESU, and must seek public comment on its pending determination.

Discussion of the Biological Analysis Underlying the Determination

The Tribal Plan describes fishery management activities within the context of broader artificial propagation activities in the Imnaha River. The Nez Perce Tribe and the State of Oregon have co-manager responsibilities for spring chinook salmon within the Imnaha River sub-basin and manage this salmon population under cooperative agreements. The Tribe and state are responsible for managing fisheries and conservation-related artificial propagation programs that operate in the watershed. The objective of the Tribal Plan is to harvest spring chinook in a manner consistent with the overall objectives for chinook salmon in this watershed.

Impact levels to the listed spring chinook populations in the ESU are specified in the Tribal Plan. Analysis of the predicted return of naturally and hatchery-produced spring chinook salmon to the Imnaha River basin in year 2001 and the proposed harvest levels indicates that all hatchery brood stock and supplemental spawning needs will be met. Natural spawning escapement is projected to be approximately 133 percent of the previously highest count, after the proposed fisheries. The harvest proposal is based on a 10-percent impact on a total return that has been estimated at 6,700 fish. Included in the actions proposed by the Tribal Plan are tribal and state fisheries which would harvest 670 adult and jack chinook salmon. The Evaluation concludes that the proposed harvest will not interfere with brood stock collection goals and supplemental releases of fish for natural spawning while still allowing a projected return of over 3,000 adult naturally produced spring chinook. NMFS determined that the fishery management activities included in the Tribal Plan will not appreciably reduce the likelihood of survival and recovery of the ESU in the wild based on the current status of this component population. A comprehensive review of the Tribal Plan to evaluate whether the fisheries and listed spring chinook populations are performing as expected will be done at the end of the proposed 2001 season.

Summary of Comments Received in Response to the Proposed Evaluation and Recommendation Document

NMFS published notification of its draft evaluation and pending determination on the Tribal Plan for public review and comment on May 16, 2001 (66 FR 27069). The public comment period closed on May 29, 2001. NMFS received no comments concerning this document.

Based on its Evaluation and the fact that no public comments were received, NMFS issued its final determination on the Tribal Plan on August 31, 2001.

Under section 4 of the ESA, NMFS, by delegated authority from the Secretary of Commerce, is required to adopt such regulations as it deems necessary and advisable for the conservation of the species listed as threatened. The ESA Tribal Plan Limit at 50 CFR 223.209 states that the ESA section 9 take prohibitions will not apply to any activity undertaken by a tribe, tribal member, tribal permittee, tribal employee, or tribal agent in compliance with a Tribal Plan determined by NMFS to not appreciably reduce the likelihood of survival and recovery of the listed salmonids.

Dated: November 6, 2001.
Margaret Lorenz,
Acting Chief, Endangered Species Division, Office of Protected Resources, National Marine Fisheries Service.

[FR Doc. 01-28239 Filed 11-8-01; 8:45 am]

BILLING CODE 3510-22-S